DEPARTMENT OF THE INTERIOR

National Park Service

Cape Cod National Seashore, South Wellfleet, Massachusetts; Cape Cod National Seashore Advisory Commission Two Hundred Fifty-Second Notice of Meeting

Notice is hereby given in accordance with the Federal Advisory Committee Act (Pub. L. 92-463, 86 Stat. 770, 5 U.S.C. App 1, Section 10), that a meeting of the Cape Cod National Seashore Advisory Commission will be held on April 11, 2005.

The Commission was reestablished pursuant to Pub. L. 87-126 as amended by Pub. L. 105-280. The purpose of the Commission is to consult with the Secretary of the Interior, or his designee, with respect to matters relating to the development of Cape Cod National Seashore, and with respect to carrying out the provisions of sections 4 and 5 of the Act establishing the Seashore.

The Commission members will meet at 1 p.m. in the meeting room at Salt Pond Visitor Center, Eastham, Massachusetts for the regular business meeting to discuss the following:

1. Adoption of Agenda

2. Approval of Minutes of Previous Meeting (February 14, 2005)

3. Reports of Officers

4. Reports of Subcommittees

Nickerson Fellowship Subcommittee Report

5. Superintendent's Report

Update on Salt Pond Visitor Center Project

Update on Highlands Center Project

Update on Hunting EIS

Update on Dune Shack issue

Update on Proposed Herring River Restoration Project

Update on ORV Permits

News from Washington

6. Old Business

7. New Business

8. Date and agenda for next meeting

9. Public comment and

10. Adjournment

The meeting is open to the public. It is expected that 15 persons will be able to attend the meeting in addition to Commission members.

Interested persons may make oral/written presentations to the Commission during the business meeting or file written statements. Such requests should be made to the park superintendent at least seven days prior to the meeting. Further information concerning the meeting may be obtained from the Superintendent, Cape Cod National Seashore, 99 Marconi Site Road, Wellfleet, MA 02667.

Dated: February 18, 2005.
Michael B. Murray,
Acting Superintendent.

[FR Doc. 05-4736 Filed 3-9-05; 8:45 am]

BILLING CODE 4312-52-P